NUCLEAR REGULATORY COMMISSION

Advisory Committee on Nuclear Waste; Notice of Meeting

The Advisory Committee on Nuclear Waste (ACNW) will hold its 171st meeting on June 6-7, 2006, Room T-2B3, 11545 Rockville Pike, Rockville, Maryland.

The schedule for this meeting is as follows:

Tuesday, June 6, 2006

1 p.m.-1:15 p.m.: Opening Statement (Open)—The ACNW Chairman will make opening remarks regarding the conduct of the meeting.

1:15 p.m.-3:15 p.m.: Overview of Commercial Spent Nuclear Fuel Reprocessing (Open)—A former ACNW Committee member will brief the ACNW on theory and technology used in the past to reprocess spent nuclear fuel.

3:30 p.m.-4:30 p.m.: NRC's spent Nuclear Fuel Reprocessing Regulation (Open)—The NRC staff will update the Committee on the implications of a Department of Energy Nuclear fuel Recycling Program to NRC regulations concerning the licensing of spent nuclear fuel recycling facilities.

4:30 p.m.-5:30 p.m.: Overview of the Application of NRC Regulations to Spent Nuclear Fuel Reprocessing (Open)—The NRC staff will brief the Committee on potential changes to the regulatory process that may be needed to accommodate spent nuclear fuel reprocessing.

5:30 p.m.-6 p.m.: Discussion of Proposed White Paper (Open)—The Committee will discuss the planning for scope and content of a potential ACNW White paper on spent nuclear fuel reprocessing.

Wednesday, June 7, 2006

8:30 a.m.-8:45 a.m.: Opening Remarks by the ACNW Chairman (Open)—The ACNW Chairman will make opening remarks regarding the conduct of the meeting.

8:45 a.m.-4 p.m.: Miscellaneous (Open/Closed)—The Committee will discuss matters related to the conduct of ACNW activities and specific issues that were not completed during previous meetings, as time and availability of information permit. Discussions may include future Committee Meetings.

Note: A portion of this meeting may be closed pursuant to 5 U.S.C. 552b ( c) (2) and (6) to discuss organizational and personnel matters that relate solely to internal personnel rules and practices of ACNW, and information the release of which would constitute a clearly unwarranted invasion of personal privacy.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Mr. Michael R. Snodderly (Telephone 301-415-6927), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Snodderly as to their particular needs.

In accordance with Subsection 10(d) Public Law 92-463, I have determined that it is necessary to close portions of this meeting noted above to discuss organizational and personnel matters that relate solely to internal personnel rules and practices of ACNW, and information the release of which would constitute a clearly unwarranted invasion of personal privacy.

Further information regarding topics to be discussed, whether the meeting has been canceled or rescheduled, the Chairman's ruling on requests for the opportunity to present oral statements and the time allotted, therefore can be obtained by contacting Mr. Snodderly.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: May 19, 2006.
Andrew L. Bates,
Advisory Committee Management Officer.

[FR Doc. E6-8035 Filed 5-24-06; 8:45 am]

BILLING CODE 7590-01-P